NATIONAL SCIENCE FOUNDATION

Advisory Committee for Cyberinfrastructure; Notice of Meeting

In accordance with the Federal Advisory Committee Act (Pub. L. 92-463, as amended), the National Science Foundation announces the following meeting:

Name: Advisory Committee for Cyberinfrastructure (#10719).

Dates/Time: Thursday, Nov. 29, 2001, 8 AM to 5 PM EST, and Friday, Nov. 30, 2001, 8 AM to 5 PM EST.

Place: Room 1150, National Science Foundation, 4201 Wilson Boulevard, Arlington, VA and on the Access Grid in the Lucky Labrador Virtual Venue.

Type of Meeting: Open. The meeting will involve the use of the Access Grid to interview witnesses. Persons wishing to attend the meeting at NSF should contact Richard Hilderbrandt to arrange for a visitor's pass. Persons wishing to watch the proceedings through the use of the Access Grid are invited to join the meeting in the Lucky Labrador Virtual Venue.

Contact Person: Mr. Richard Hilderbrandt, Program Director, Division of Advanced Computational Infrastructure and Research, Suite 1122, National Science Foundation, 4201 Wilson Boulevard, Arlington, VA 22230, Tel: (703) 292-7093, e-mail: rhilderb@nsf.gov.

Purpose of Meeting: To obtain testimony from expert witnesses to pertinent to the preparation of a report to the National Science Foundation concerning the broad topic of advanced cyberinfrastructure and the evaluation of the existing Partnerships for Advanced Computational Infrastructure.

Agenda (all times EST):

Thursday, 29 November 2001

8-10 AM In-Person and Access Grid Testimony (4 people)

10-10:30 AM Break

10:30 AM-12:30 PM In-Person and Access Grid Testimony (4 people)

12:30-1:30 PM Lunch

1:30-3 PM In-Person and Access Grid Testimony (3 people)

3-3:30 PM Break

3:30-5 PM In-Person and Access Grid Testimony (3 people)

Friday, 30 November 2001

8-10 AM In-Person and Access Grid Testimony (4 people)

10-10:30 AM Break

10:30 AM-12:30 PM In-Person and Access Grid Testimony (4 people)

12:30-1:30 PM Lunch

1:30-3 PM In-Person and Access Grid Testimony (3 people from West Coast)

3-3:30 PM Break

3:30-5 PM Access Grid Testimony Only from West Coast (3 people)

Dated: November 13, 2001.
Susanne Bolton,
Committee Management Officer.

[FR Doc. 01-28754 Filed 11-15-01; 8:45 am]

BILLING CODE 7555-01-M